DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement between the Government of the United States of America and the Government of the United Kingdom of Great Britain and Northern Ireland for Cooperation in Peaceful Uses of Nuclear Energy.

DATES: This subsequent arrangement will take effect no sooner than March 20, 2019.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the advance consent list of countries or destinations referred to in Article 6 of the Agreement between the Government of the United States of America and the Government of the United Kingdom of Great Britain and Northern Ireland for Cooperation in Peaceful Uses of Nuclear Energy, done at Washington on May 4, 2018, (the Agreement) and subsection A. (1) of Section 4 of the Agreed Minute to the Agreement. Argentina, Australia, Brazil, Canada, Egypt, European Atomic Energy Community (EURATOM), Indonesia, Japan, Kazakhstan, Morocco, Norway, Republic of Korea, South Africa, Switzerland, Turkey, Ukraine, United Arab Emirates, and Vietnam are third countries or destinations on the U.S. advance consent list and, therefore, are eligible to receive retransfers from the United Kingdom of Great Britain and Northern Ireland of byproduct material, non-nuclear material, unirradiated low enriched uranium, unirradiated source material, and equipment subject to Article 6 of the Agreement upon the Agreement's entry into force. Consistent with subsections A.(2) and A.(3) of Section 4 of the Agreed Minute to the Agreement, the United States has a civil nuclear cooperation agreement, under the authority of section 123 of the Atomic Energy Act of 1954, as amended, in force with each of the countries or destinations that are on the advance consent list, and each of these countries or destinations, including each member state of EURATOM, has made effective non-proliferation commitments.

Pursuant to the authority in section 131 a. of the Atomic Energy Act of 1954, as delegated, I have determined that this proposed subsequent arrangement will not be inimical to the common defense and security of the United States of America.

For the Department of Energy.
Dated: February 22, 2019.
Brent K. Park,
Deputy Administrator, Defense Nuclear Nonproliferation.

[FR Doc. 2019-03920 Filed 3-4-19; 8:45 am]

BILLING CODE 6450-01-P